DEPARTMENT OF THE INTERIOR

National Park Service

[NPS-WASO-NAGPRA-NPS0039840; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after May 5, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of 60 cultural items have been requested for repatriation. The 60 of objects of cultural patrimony are four lots of ceramics, 13 lots of grinding stones, 14 lots of lithics, one lot of ochre, two lots of pendants, four lots of metal objects, five lots of glass, seven lots of animal bone, two lots of discoidal stones, one lot of quartz crystals, one lot of stone bowls, two lots of botanical materials, two lots of unmodified shell, one lot of geological materials, and one lot of pipes.

In 1964 an archaeological field school for the University of California Department of Anthropology was led by Makoto Kowta. The class excavated archaeological site CA-RIV-265 (also known as the Ford Site), which is located between the Bernasconi Hills and Mount Russel in Riverside County. The project began on October 3rd with a surface survey and was followed by the excavation of three pits measuring 6 x 6 feet. The features uncovered were bedrock mortars and a midden deposit. This area is known to the Luiseno tribes as Páavo' and is identified as part of their ancestral lands. Through catalog verification it was determined that objects were missing from the collection; should these objects be located in the future they will be considered as part of this repatriation and will be transferred to the Tribe. During tribal consultation, the Pechanga Band of Indians identified objects of cultural patrimony including ceramics, manos, lithics (points, flakes, scrapers), ochre, a slate pendant fragment, and historic bullet shells.

In 1975, a volunteer field school from the University of California, Riverside was led by Garth Portillo for the Department of Transportation ahead of a project to widen Highway 74 under Highway Project 08-Riv-15. Archaeological materials were collected from the surface and 178 units measuring 10 x 10m and 12 units were excavated to an average depth of 25cm. A total of 369 objects were removed from archaeological site CA-RIV-659 including lithic materials, ground stone, faunal remains, metal objects, and ceramics. The collection was subsequently housed at UCR under accession number 39 and findings were published in UCR Archaeological Research Unit Report #139, “Final Report: Mitigation of Archaeological Site 4-RIV-659, Nichols Road, Elsinore”. During consultation in 2024, tribal representatives from the Pechanga Band of Indians identified objects of cultural patrimony and noted that the site is located in an area known to the Luiseño as Páayaxchi Nivé'wuna, which is part of their ancestral lands.

In 1978, the University of California, Riverside's Archaeological Research Unit (UCR-ARU) was contracted by private property owners to assess a parcel of land before proposed residential development. The project was led by Renee Giansanti and consisted of a surface collection, followed by the excavation of two test units measuring 1 x 1 meter each. In total, 237 items were removed from archaeological site CA-RIV-1309, including lithic flakes, cores and scrapers, a granite pestle fragment, and a discoidal mano. These items were housed at UCR under accession number 61. In the area surrounding the site, archaeologists recorded 10 bedrock mortars. Archaeologists theorized the site to represent a satellite camp of the larger village of `Éxva Teméku. During consultation with tribal representatives from the Pechanga Band of Indians in 2024, these items were identified as objects of cultural patrimony.

In 1978 the University of California, Riverside Archaeological Research Unit was contracted by a private property owner to assess 800 acres of land in an area known as Skunk Hollow near Bachelor Mountain to mitigate adverse impacts from future development. The assessment, led by Renee Giansanti, consisted of a surface collection followed by the excavation of four test units measuring 1 x 1m at archaeological site CA-RIV-2945. A midden feature and a bedrock mortar were identified during the investigation in addition to 34 items all made of lithic materials. These objects included flakes, cores, manos, pestles, and a discoidal stone; they were subsequently housed at the University of California, Riverside under accession number 62. During consultation with tribal representatives in 2024, the objects were identified as objects of cultural patrimony. The area they were removed from is considered to be part of Luiseño ancestral lands and is known to the Luiseño as ∫akí∫la. The objects are important pieces of history and have ongoing cultural significance for the Pechanga Band of Indians.

In 1979, the University of California, Riverside Archaeological Research Unit assessed about 13 acres of land by request of a private residential land developer. The project, led by Thomas Holcomb, consisted of a surface survey and collection, followed by the excavation of two 1 x 1m test units at archaeological site CA-RIV-712. Archaeologists identified one large bedrock metate and collected approximately 31 lithic objects including flakes, manos, and quartz crystals. Archaeologists theorized that the site was possibly a seed processing area used by the people of the nearby village of `Éxva Teméku. During consultation with tribal representatives from the Pechanga Band of Indians in 2024, these items were identified as objects of cultural patrimony. The area the objects were removed from is known to the tribe as part of their ancestral range and materials from this area are considered to be culturally significant for the tribe's history. The Meadowbrook area is adjacent to the contemporary Pechanga Band of Indians' reservation property.

In 1977, Butterfield Land and Development Company requested that the University of California, Riverside Archaeological Research Unit (UCR-ARU) assess a parcel of land in Rancho California to mitigate adverse effects to potential cultural remains. An initial evaluation determined that cultural materials would be collected from the surface to avoid damage or destruction. The surface survey and collection resulted in the recovery of 52 stone objects including project points, hammerstones, manos, metates, and lithic flakes, which were subsequently housed at UCR under accession number 112. According to the final project publication, “Results of Surface Collection at CA-RIV-1211, Rancho California, Riverside County, California” by Ken Daly, one projectile point was identified by archaeologists as dating occupation to after A.D. 1300. Based on the assemblage of objects recovered archaeologists concluded that “perhaps a half-dozen individuals, possibly a family, occupied this site during the summer when it was necessary to leave a village to collect foodstuffs.” During consultation with tribal representatives from the Pechanga Band of Indians in 2024, these items were identified as objects of cultural patrimony.

In 1981, Daniel McCarthy and Steve Bouscaren, staff of the University of California, Riverside Archaeological Research Unit (UCR-ARU) investigated archaeological site CA-RIV-375 with permission from the property owner. They noted five areas with bedrock milling features, 61 bedrock mortars, seven grinding slicks, one rockshelter, and two pictographs. According to site records, artifacts had been collected from the surface by previous residents and remained in the possession of the property owner. During their assessment, they collected approximately 28 objects including grinding stones, faunal bone, lithic flakes, and ceramic sherds, which were housed at UCR under accession number 126. In 2024, during tribal consultation, tribal representatives from the Pechanga Band of Indians noted that the objects were important to the tribe's history and identified them as being objects of cultural patrimony.

In 1989, objects removed from archaeological site CA-RIV-48 were donated to the University of California, Riverside Archaeological Curation Unit by Mrs. Lyle Whitcomb Smith and her sister-in-law, Mrs. Audrey Whitcomb. Daniel McCarthy, an archaeologist with UCR, visited the site and spoke with Mrs. Whitcomb Smith, the wife of the original recorder of the site and property owner, Mr. CE Smith. The site is located on the family ranch but has been disturbed by construction since the original recording in 1951. The site was described by McCarthy as a “camp of some sort with numerous metates, manos, and other ground stone artifacts observed in the late 1940s”. This area is known to the Luiseño as Náqwu and is part of their ancestral lands. The University of California, Riverside catalogs list six objects being donated including two basin metates, two manos, one stone bowl, and one stone ball. Unfortunately, the objects do not seem to have been labelled and only five of them have been identified: one stone bowl, two basin metates, and two manos/pestles. The stone ball reported in the 1989 donation catalogs is missing from the collection, but if it is located in the future, it will be considered part of this repatriation and returned to the Pechanga Band of Indians.

In 1989, the University of California, Riverside Archaeological Research Unit (UCR-ARU) was contracted by the Bear Creek Development Company to assess an area in Murrieta, California ahead of residential development. Archaeologists relocated archaeological site CA-RIV-1273 which was first recorded in 1978 by Chace and Associates during work on the Joaquin Ranch property. The UCR-ARU conducted a surface collection and then an excavation of four 1 x 1.5m test units to a depth of about 60cm. A total of 112 artifacts were recovered including a mano, a metate, lithic materials, and faunal remains, which were housed at UCR under accession number 150. In UCR-ARU report #1021, “Archaeological Studies at the Bear Creek Site: Test Excavations at CA-RIV-1273, Murrieta, Riverside County, California”, archaeologists interpreted the site as a temporary camp used for hunting and collecting plants. This area and its surrounding landscape are known to the Luiseño as Páa∫uku. Village sites and burials have been disturbed in the Joaquin Ranch property during previous archaeological projects. During tribal consultation in 2024, tribal representatives from the Pechanga Band of Indians reviewed the collection and identified the materials as objects of cultural patrimony.

In 1991, the University of California, Riverside Archaeological Research Unit (UCR-ARU) conducted an archeological assessment on approximately twenty acres of land located in western Riverside County, California at the request of Thatcher Engineering & Associates, ahead of a land development project. The archaeological assessment consisted of a field survey and test excavations, which uncovered archeological site CA-RIV-4117. The site consisted of approximately 20 bedrock grinding sticks, two bedrock basin metates, and four mortars. The test excavations consisted of intensive surface collection of all observable artifacts and the excavation of six 1 x 1m square units. The project is detailed in UCRARU report #1125, “Cultural Resource Assessment of Tentative Parcel 26667, Phase I—Survey, Phase II—Test Excavations at Site CA-RUV-4117 Sage Area of Riverside County”, by Bruce Love, Dicken Everson, and Adella Schroth. The surface collection of this survey and excavations were subsequently housed at UCR under accession number 170. These objects include glass, lithic, metal artifacts, animal bone, floral material, and unmodified shell, which the Pechanga Band of Indians have identified as objects of cultural patrimony.

In 1991, the University of California, Riverside Archaeological Research Unit (UCR-ARU) was contracted to perform a cultural resources assessment of a parcel of private property proposed for development. The assessment consisted of a pedestrian survey followed by the excavation of three 1 x 1-m test units at archaeological site CA-RIV-4499, which was located near several bedrock milling features. The excavation uncovered one small slate pendant, two faunal bone fragments, historic glass fragments, and lithic materials. Archaeologists believed the site to represent a temporary camp or seed-processing area, but did not find evidence of permanent occupation in the immediate area. During consultation with tribal representatives from the Pechanga Band of Indians in 2024, these items were identified as objects of cultural patrimony.

In 2022 a large grinding stone was found in the University of California, Riverside's archaeological collections with a note taped to it reading, “RIV-419-27, Site records by P. Chace and E Shepard, 1963. No record of artifact collection in site records”. Site records describe the site as a “village on a flat ridge” and note the presence of bedrock mortars and pictographs. It is unclear when and why the stone was added to UCR's archaeological collections, so it was assigned accession number 403 after its discovery in 2022. During consultation with tribal representatives from the Pechanga Band of Indians in 2024, the grinding stone was identified as an object of cultural patrimony.

In 1984, the University of California, Riverside Archaeological Research Unit (UCR-ARU) was contracted by a private property owner to evaluate two archaeological sites (CA-RIV-2782, CA-RIV-2783) that could be damaged by nearby land development. CA-RIV-2782 was described as a large milling area with several grinding slicks. CA-RIV-2783 contained several bedrock milling features with manos, mortars, pestles, and a ceramic sherd noted on the surface. UCR-ARU report #766 describes the survey of the sites but does not note that any artifacts were removed from either site. In 2022, however, a single grinding stone was discovered in UCR's archaeological collections with no accession or catalog number and just a note reading, “CA-RIV-2783, No Acc. #, ARU # ???”. After discovery, the stone was assigned the new accession number 404. During consultation with tribal representatives from the Pechanga Band of Indians in 2024, the grinding stone was identified as an object of cultural patrimony.

In 2022, a large metate was found in the University of California, Riverside's archaeological collections with a label reading, “Possibly RIV-186-26??? No Acc #, ARU # ???”. No record of the metate could be found in UCR's original accession records. Site records describe the site as a camp site with bedrock milling features. Artifacts noted in original site records include a clay pipe fragment, arrowheads, flakes, and other forms of lithic objects. The circumstances surrounding UCR's acquisition of the metate are unknown; it was assigned the new accession number 405 in 2023 after being discovered in the collections. This site is located in an area known to the Luiseño as Waxáara, which is part of their ancestral lands. During consultation with tribal representatives from the Pechanga Band of Indians in 2024, the grinding stone was identified as an object of cultural patrimony.

In 2022, a box containing shells, lithic objects, geological materials, historic metals, charcoal, and bone was found in the University of California, Riverside's archaeological collections with a label reading “CA-RIV-1064”. No record of the items could be found in UCR's original accession records. Site records describe the site as rock shelter that is reportedly close to a cluster of other sites with grinding features, rock art, and cupules. The site record was updated in 1988 by the University of Riverside, Archaeological Research Unit (UCR-ARU) as part of ARU Project #870, so it is likely that the objects were collected during that project. The collection was assigned accession number 417 in 2023. During consultation with tribal representatives from the Pechanga Band of Indians in 2024, these items were identified as objects of cultural patrimony.

In 1973, the University of California, Riverside Archaeological Research Unit (UCR-ARU) was contracted to assess potential impacts to archaeological resources in the vicinity of a proposed recreational vehicle park approximately three miles south of Lake Mathews in the Gavilan Hills of western Riverside County. The assessment consisted of a foot survey of the proposed project area, during which four archaeological sites were located. The sites, CA-RIV-1251 through 1254, were all described as “processing sites” with evidence of quarrying, hunting, and seed-processing. UCR-ARU Report #72, “Gavilan Springs Ranch Recreational Development, Potential Impact on Archaeological Resources”, states that no artifact collections were made, however, four objects from archaeological sites CA-RIV-1251, CA-RIV-1252, and CA-RIV-1254, were found in UCR's archaeological collections in 2022. The objects are one partially reconstructed clay pipe and three lithic cores. The collection was assigned accession number 420 in 2022. During consultation with tribal representatives from the Pechanga Band of Indians in 2024, these items were identified as objects of cultural patrimony.

In 2023, a round mano was found in the University of California, Riverside's archaeological collections with no associated documentation. The mano is not mentioned in any of UCR's original accession logs. The only information about the mano was a faint note written in pencil directly on the mano's surface reading, “Gavilan Hills, collected by Retta Ewes and donated to Geology D”. UCR NAGPRA Program staff were not able to find further information about Retta or the mano. It is likely that it was collected by a former student (Retta) and given to the Geology Department. It's unclear how it ended up in the archaeological collections, so it was assigned accession number 422 after being rediscovered by program staff. During consultation with tribal representatives from the Pechanga Band of Indians in 2024, the grinding stone was identified as an object of cultural patrimony.

In 1979, Christopher Drover recorded archaeological site CA-RIV-1704, which he described as an “adobe and decomposed granite block residence with associated trash dump”. Drover noted historic glass, ceramics, and a mano in the site record and noted that a “small surface collection [was] taken for purposes of establishing occupation date” and stored at the University of California, Riverside. The collection was never assigned an accession number or noted in UCR accession logs. In 2022, the objects were discovered in the collections and assigned accession number 447. During consultation with tribal representatives from the Pechanga Band of Indians in 2024, these items were identified as objects of cultural patrimony.

In 1978, the University of California, Riverside Archaeological Research Unit (UCR-ARU) was contracted by a private law firm to assess several tracts of land for cultural resources. According to UCR-ARU Report #280, several seed grinding features were noted in the project area and objects such as a stone-knife, grinding stones, and hammerstones were observed. There are no records of any collections being produced during the survey, but several grinding stones and lithic objects were found in UCR's collections labelled “CA-RIV-1501” in 2022. The stones were subsequently assigned accession number 454. It is likely that UCR-ARU staff collected the stones during the 1978 project, but never assigned them an accession number. During consultation with tribal representatives from the Pechanga Band of Indians in 2024, these items were identified as objects of cultural patrimony.

In 2002, RECON Environmental Inc. was contracted to conduct a pre-grading survey of 90 acres of land that was to be included in the El Sobrante Landfill expansion. During the foot survey a new archaeological site, CA-RIV-6965, was recorded as a small quarry with a surface scatter of lithic flakes and stone tools. Following the survey, the archaeologist conducted a subsurface test of six shovel test pits and two test units. The excavation uncovered lithic debitage and several hammerstones. The collection was subsequently transferred to the University of California, Riverside Archaeological Curation Unit for permanent curation. During consultation with tribal representatives from the Pechanga Band of Indians in 2024, these items were identified as objects of cultural patrimony.

Determinations

The University of California, Riverside has determined that:

• The 60 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pechanga Band of Indians (previously listed as Pechanga Band of Luiseno Mission Indians of the Pechanga Reservation, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 5, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: March 26, 2025.
Melanie O'Brien,
Manager, National NAGPRA Program.

[FR Doc. 2025-05812 Filed 4-3-25; 8:45 am]

BILLING CODE 4312-52-P